DEPARTMENT OF ENERGY

Federal Energy Regulatory Commission

[Project No. 15297-000]

BOST2 Hydroelectric, LLC; Notice of Preliminary Permit Application Accepted for Filing and Soliciting Comments, Motions To Intervene, and Competing Applications

On January 25, 2023, BOST2 Hydroelectric, LLC, filed an application for a preliminary permit, pursuant to section 4(f) of the Federal Power Act, proposing to study the feasibility of the Marathon County Pumped Storage Project (Marathon County Project or project) to be located near approximately six miles southwest of the City of Hatley in Marathon County, Wisconsin. The sole purpose of a preliminary permit, if issued, is to grant the permit holder priority to file a license application during the permit term. A preliminary permit does not authorize the permit holder to perform any land-disturbing activities or otherwise enter upon lands or waters owned by others without the owners' express permission.

The proposed project is a closed loop pumped storage project that would consist of the following: (1) a 76-foot-high embankment, 80-acre-footprint circular or oval upper reservoir constructed as a geotextile-lined rockfill embankment with a total storage capacity of approximately 5,300 acre-feet of active water operating between a maximum water surface elevation of 1,361 feet mean sea level (msl) and a minimum water surface elevation of 1,295 feet msl; (2) a reinforced concrete “morning glory” type upper intake of circular configuration with a maximum outside diameter of approximately 95-feet and an inside diameter of 38-feet; (3) an approximately 2,770-foot-long, 23-foot-diameter vertical penstock excavated in granitic bedrock extending between the upper intake and the pump/turbines below; (4) an underground concentric circular tunnels lower reservoir with diameters from 5,400 feet to 4,200 feet excavated in granitic bedrock, located 2,100 feet below the ground surface elevation of 1,269 feet msl, with a usable storage capacity approximately the same as the upper reservoir and operational water elevations between minus 798 feet msl and minus 840 feet msl; (5) a 460-foot-long, 80-foot-wide, 160-foot-high powerhouse located 200 feet below the lower reservoir containing three reversible pump/turbine-motor/generator units rated for 333 megawatts each; (6) a 410-foot-long, 60-foot-wide, 160-foot-high underground transformer gallery; (7) a 200-foot-square above ground substation; (8) a 200 to 500-foot-long, 345-kilovolt (kV) transmission line extending from the substation to an existing 345-kV transmission line owned by others; and (9) appurtenant facilities. There would be no federal land within the proposed project boundary. The estimated annual generation of the Marathon County Project would be 2,628 gigawatt-hours.

Applicant Contact: Mr. Douglas Spaulding, P.E., Nelson Energy, 8441 Wayzata Blvd., Suite 101, Golden Valley, MN 55426; phone: (952) 544-8133.

FERC Contact: Sergiu Serban; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15297-000.

More information about this project, including a copy of the application, can be viewed or printed on the “eLibrary” link of Commission's website at http://www.ferc.gov/docs-filing/elibrary.asp. Enter the docket number (P-15297) in the docket number field to access the document. For assistance, contact FERC Online Support.

Dated: March 24, 2023.
Debbie-Anne A. Reese,
Deputy Secretary.

[FR Doc. 2023-06597 Filed 3-29-23; 8:45 am]

BILLING CODE 6717-01-P